OFFICE OF THE UNITED STATES TRADE REPRESENTATIVE

Andean Trade Preference Act (ATPA), as Amended: Notice Regarding the 2003 and 2004 Annual Reviews

AGENCY: Office of the United States Trade Representative.

ACTION: Notice.

SUMMARY: The Office of the United States Trade Representative (USTR) received petitions in September 2004 to review certain practices in certain beneficiary developing countries to determine whether such countries are in compliance with the ATPA eligibility criteria. In a November 15, 2004 notice, USTR published a list of responsive petitions that were accepted for review. This notice specifies the results of the preliminary review of those petitions as well as the status of the petitions filed in 2003 that have remained under review.

FOR FURTHER INFORMATION CONTACT: Bennett M. Harman, Deputy Assistant U.S. Trade Representative for Latin America, at (202) 395-9446.

SUPPLEMENTARY INFORMATION: The ATPA (19 U.S.C. 3201 et seq.), as renewed and amended by the Andean Trade Promotion and Drug Eradication Act of 2002 (ATPDEA) in the Trade Act of 2002 (Public Law 107-210), provides trade benefits for eligible Andean countries. Pursuant to section 3103(d) of the ATPDEA, USTR promulgated regulations (15 CFR part 2016) (68 FR 43922) regarding the review of eligibility of countries for the benefits of the ATPA, as amended.

In a Federal Register notice dated August 17, 2004, USTR initiated the 2004 ATPA Annual Review and announced a deadline of September 15, 2004 for the filing of petitions (69 FR 51138). Several of these petitions requested the review of certain practices in certain beneficiary developing countries regarding compliance with the eligibility criteria set forth in sections 203(c) and (d) and section 204(b)(6)(B) of the ATPA, as amended (19 U.S.C. 3203 (c) and (d); 19 U.S.C. 3203(b)(6)(B)).

In a Federal Register notice dated November 15, 2004, USTR published a list of the responsive petitions filed pursuant to the announcement of the annual review (69 FR 65674). The Trade Policy Staff Committee (TPSC) has conducted a preliminary review of these petitions. It has determined that the petition filed by the American Cast Iron Pipe Company concerning Ecuador does not require action and terminates its review.

With respect to the remaining 2004 petitions, the TPSC is modifying the schedule for this review, in accordance with 15 CFR 2016.2(b). The results will be announced on or about May 31, 2005. The TPSC is similarly modifying the date of the announcement of the results of preliminary review for the remaining 2003 petitions to May 31, 2005. Following is the list of all petitions that remain under review:

Peru: Engelhard;

Peru: Princeton Dover;

Peru: LeTourneau;

Peru: Duke Energy;

Ecuador: AFL-CIO; Human Rights Watch; and US/LEAP;

Ecuador: Chevron Texaco;

Ecuador: Electrolux Home Products, Inc.;

Peru: Parsons Corporation.

Carmen Suro-Bredie,
Chairman, Trade Policy Staff Committee.

[FR Doc. 05-865 Filed 1-14-05; 8:45 am]

BILLING CODE 3190-W5-P